DEPARTMENT OF TRANSPORTATION

Federal Aviation Administration

14 CFR Part 39

[Docket No. FAA-2006-25890; Directorate Identifier 2006-NM-115-AD]

RIN 2120-AA64

Airworthiness Directives; Airbus Model A300 B2 and B4 Series Airplanes

AGENCY: Federal Aviation Administration (FAA), Department of Transportation (DOT).

ACTION: Notice of proposed rulemaking (NPRM).

SUMMARY: The FAA proposes to supersede an existing airworthiness directive (AD) that applies to all Airbus Model A300 B2, B4-100, and B4-200 series airplanes. The existing AD currently requires supplemental structural inspections to detect fatigue cracking, and repair of cracked structure. This proposed AD would require revising the maintenance program by incorporating new and revised supplemental structural inspections, inspection intervals, and repairs; and repair of any damaged, cracked, or corroded structure; which would end the existing supplement structural inspections. This proposed AD results from a review of service history and reports received from the current supplemental structural inspection document program. We are proposing this AD to prevent reduced structural integrity of these airplanes due to fatigue cracking.

DATES: We must receive comments on this proposed AD by October 26, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “Docket No. FAA-2006-25890; Directorate Identifier 2006-NM-115-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On June 17, 1996, we issued AD 96-13-11, amendment 39-9679 (61 FR 35122, July 5, 1996), for all Airbus Model A300 B2, B4-100, and B4-200 series airplanes. That AD requires supplemental structural inspections to detect fatigue cracking, and repair of cracked structure. That AD also requires revising the supplemental structural inspection document (SSID) program by changing some of the inspection techniques, changing some of the thresholds and intervals for inspections, expanding the area to be inspected for some of the inspections, and revising the Fleet Leader Program. That AD resulted from a review of service history and reports received from existing SSID inspections. We issued that AD to prevent reduced structural integrity of these airplanes due to fatigue cracking.

Actions Since Existing AD Was Issued

Since we issued AD 96-13-11, the European Aviation Safety Agency (EASA), which is the airworthiness authority for the European Union, notified us that an unsafe condition may exist on all Airbus Model A300 B2 and B4 series airplanes. The EASA advises that, based on a review of service history and reports received from the current SSID program, further rulemaking is necessary in order to ensure the continued structural integrity of these airplanes.

Relevant Service Information

Airbus has issued A300 Airworthiness Limitation Items (ALI) Document SEM2/95A.1090/05, Issue 3, dated September 2005 (hereafter referred to as “Issue 3 of the ALI”). Issue 3 of the ALI defines inspections and modifications necessary to ensure the structural integrity applicable to the specified threshold (structural modification point) arising from the evaluation of widespread fatigue damage, and fatigue-related supplemental structural inspections for a given applicability period from zero flight cycles/flight hours to the limit of validity.

Airbus also has issued Temporary Revision (TR) 3.1, dated April 2006 (hereafter referred to as “TR 3.1”), of Issue 3 of the ALI. TR 3.1 contains changes and additions to Issue 3 of the ALI. The applicability, limit of validity, program rules, program notes, and definitions remain valid as stated in Issue 3 of the ALI.

Accomplishing the actions specified in Issue 3 of the ALI as revised by TR 3.1 ends the supplemental structural inspections required by AD 96-13-11.

Accomplishing the actions specified in the service information is intended to adequately address the unsafe condition. The EASA mandated the service information and issued airworthiness directive 2006-0071, dated March 30, 2006, to ensure the continued airworthiness of these airplanes in the European Union.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

This proposed AD would supersede AD 96-13-11 and would retain all the requirements of the existing AD. This proposed AD would also require revising the FAA-approved maintenance program by incorporating new and revised supplemental structural inspections, inspection intervals, and repairs; and repair of any damaged, cracked, or corroded structure; which would end the existing supplement structural inspections.

Differences Between the Proposed AD, EASA Airworthiness Directive, Issue 3 of the ALI, and TR 3.1

The EASA airworthiness directive specifies a compliance time of within 90 days from the effective date of the airworthiness directive for doing the actions specified in Issue 3 of the ALI, which replaces the actions specified in Airbus A300 SSID, Revision 4. However, this proposed AD would require, within 12 months after the effective date of this AD, revising the FAA-approved maintenance program by incorporating the new and revised actions specified in Issue 3 of the ALI as revised by TR 3.1. In developing an appropriate compliance time for this action, we considered the safety implications and normal maintenance schedules for the timely accomplishment of the proposed revision. We also consider the proposed revision to be more complex than that required by the EASA airworthiness directive. AD 96-13-11 did not mandate incorporation of Revision 3 or Revision 4 of the Airbus A300 SSID and thus U.S. operators would be required to incorporate more changes than those specified in the EASA airworthiness directive. In consideration of these items, we have determined that a compliance time of 12 months will ensure an acceptable level of safety and allow the revision to be done during scheduled maintenance intervals for most affected operators.

Unlike the procedures described in Issue 3 of the ALI as revised by TR 3.1, this proposed AD would not permit further flight if any cracked structure is detected. We have determined that, because of the safety implications and consequences associated with that cracking, any cracked structure must be repaired before further flight. This difference has been coordinated with the EASA.

Issue 3 of the ALI as revised by TR 3.1 specifies to contact the manufacturer for instructions on how to repair certain conditions, but this proposed AD would require repairing those conditions using a method that we or the EASA (or its delegated agent) approve. In light of the type of repair that would be required to address the unsafe condition, and consistent with existing bilateral airworthiness agreements, we have determined that, for this proposed AD, a repair we or the EASA approve would be acceptable for compliance with this proposed AD.

Although Issue 3 of the ALI as revised by TR 3.1 specifies a “Sampling Concept” in section B, this proposed AD does not include that requirement. Since issuance of AD 98-16-06, we have determined that such a sampling does not provide an adequate statistical sampling size to provide confidence in the structural integrity of the fleet of airplanes. Therefore, the proposed AD would prohibit the use of such a sampling program and would require all affected airplanes of the fleet to be inspected.

Change to Existing AD

This proposed AD would retain all requirements of AD 96-13-11. Since AD 96-13-11 was issued, the AD format has been revised, and certain paragraphs have been rearranged. As a result, the corresponding paragraph identifiers have changed in this proposed AD, as listed in the following table:

Revised Paragraph Identifiers
Requirement in AD 96-13-11 | Corresponding requirement in this proposed AD
paragraph (a) | paragraph (f).
paragraph (b) | paragraph (g).
paragraph (c) | paragraph (h).
paragraph (d) | paragraph (i).
paragraph (e) | paragraph (j).
paragraph (f) | paragraph (k).
paragraph (g) | paragraph (l).
paragraph (h) | paragraph (m).
paragraph (i) | paragraph (n).
paragraph (j) | paragraph (o).
paragraph (k) | paragraph (p).
paragraph (l) | paragraph (q).

Costs of Compliance

The following table provides the estimated costs for U.S. operators to comply with this proposed AD.

Estimated Costs
Action | Work hours | Average labor rate per hour | Parts | Cost per airplane | Number of U.S.- registered airplanes | Fleet cost
Implementation of SSID (required by AD 96-13-11) | 597 | $80 | None | $47,760 | 29 | $1,385,040
Revision of the FAA-approved maintenance program (new proposed action) | 10 | 80 | None | 800 | 29 | 23,200

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-9679 (61 FR 35122, July 5, 1996) and adding the following new airworthiness directive (AD):

Airbus: Docket No. FAA-2006-25890; Directorate Identifier 2006-NM-115-AD.

Comments Due Date

(a) The FAA must receive comments on this AD action by October 26, 2006.

Affected ADs

(b) This AD supersedes AD 96-13-11.

Applicability

(c) This AD applies to all Airbus Model A300 B2 and B4 series airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (x) of this AD. The request should include a description of changes to the required inspections that will ensure the continued damage tolerance of the affected structure. The FAA has provided guidance for this determination in Advisory Circular (AC) 25-1529.

Unsafe Condition

(d) This AD results from a review of service history and reports received from the current supplemental structural inspection document program. We are issuing this AD to prevent reduced structural integrity of these airplanes due to fatigue cracking.

Compliance

(e) You are responsible for having the actions required by this AD performed within the compliance times specified, unless the actions have already been done.

Requirements of AD 96-13-11:

(f) Within one year after March 9, 1993 (the effective date of AD 93-01-24, amendment 39-8478), incorporate a revision into the FAA-approved maintenance inspection program that provides for supplemental maintenance inspections, modifications, repair, or replacement of the significant structural details (SSD) and significant structural items (SSI) specified in “Airbus Industrie A300 Supplemental Structural Inspection Document” (SSID), dated September 1989 (hereafter referred to as “the SSID”).

(g) Within one year after August 9, 1996 (the effective date of AD 96-13-11), replace the revision of the FAA-approved maintenance program required by paragraph (f) of this AD with the inspections, inspection intervals, repairs, and replacements defined in “Airbus Industrie A300 Supplemental Structural Inspection Document” (SSID), Revision 2, dated June 1994 (hereafter referred to as “Revision 2 of the SSID”). Accomplish the actions specified in the service bulletins identified in Section 6, “SB Reference List,” Revision 2 of the SSID, at the times specified in those service bulletins. The actions are to be accomplished in accordance with those service bulletins.

(1) For airplanes that have exceeded the threshold specified in any of the service bulletins identified in Section 6, “SB Reference List,” Revision 2 of the SSID: Accomplish the actions specified in those service bulletins within the grace period specified in that service bulletin. The grace period is to be measured from August 9, 1996.

(2) For airplanes that have exceeded the threshold specified in any of the service bulletins identified in Section 6, “SB Reference List,” Revision 2 of the SSID, and a grace period is not specified in that service bulletin: Accomplish the actions specified in that service bulletin within 1,500 flight cycles after August 9, 1996.

(h) If any cracked structure is detected during the inspections required by either paragraph (f) or (g) of this AD, prior to further flight, permanently repair the cracked structure in accordance with either paragraph (h)(1), (h)(2), or (h)(3) of this AD.

Note 2: A permanent repair is defined as a repair that meets the certification basis of the airplane, and does not require additional modification at a later date.

(1) The service bulletins listed in Section 6, “SB Reference List,” of the SSID (for airplanes that are currently being inspected in accordance with paragraph (f) of this AD); or in accordance with a method approved by the Manager, International Branch, ANM-116 (formerly the Standardization Branch, ANM-113), FAA, Transport Airplane Directorate, if a permanent repair is not specified in any of these service bulletins. Or

(2) The service bulletins listed in Section 6, “SB Reference List,” of Revision 2 of the SSID (for airplanes that are currently being inspected in accordance with paragraph (g) of this AD); or in accordance with a method approved by the Manager, International Branch, ANM-116 (formerly the Standardization Branch, ANM-113), if a permanent repair is not specified in any of these service bulletins. Or

(3) Other permanent repair data meeting the certification basis of the airplane which is approved by the Manager, International Branch, ANM-116 (formerly the Standardization Branch, ANM-113), or by the Direction Geáneárale de l'Aviation Civile (DGAC) of France.

(i) For airplanes identified as Fleet Leader Program (FLP) in Section 5, “Fleet Leader Program,” of the SSID or Revision 2 of the SSID: Inspect according to the instructions and intervals specified in paragraph 4.4, “Adjustment of Inspection Requirements and DSG,” of Section 4, or Section 9, as applicable, of the SSID (for airplanes inspected in accordance with paragraph (f) of this AD), or Revision 2 of the SSID (for airplanes inspected in accordance with paragraph (g) of this AD), for each SSD.

(j) For the purpose of accomplishing paragraphs (i), (k), (l), and (n) of this AD, operators shall not use paragraph 6.2, “Complete RR Method,” of Section 9 of the SSID to calculate inspection thresholds and intervals.

(k) For Model A300-B2 and B2K-3C series airplanes: For any SSD that has exceeded the values of the threshold specified in paragraph 6, “Inspection Threshold and Intervals,” Section 9 of the SSID, inspect at the time specified in either paragraph (k)(1) or (k)(2) of this AD, as applicable.

(1) For airplanes inspected in accordance with paragraph (f) of this AD: Inspect within 2,000 landings after March 9, 1993, in accordance with the SSID. Or

(2) For airplanes inspected in accordance with paragraph (g) of this AD: Inspect within 2,000 landings after August 9, 1996, in accordance with Revision 2 of the SSID.

(l) For Model A300-B4 series airplanes: For any SSD that has exceeded the values of the threshold specified in paragraph 6, “Inspection Threshold and Intervals,” Section 9 of the SSID, inspect at the time specified in either paragraph (l)(1) or (l)(2) of this AD, as applicable.

(1) For airplanes inspected in accordance with paragraph (f) of this AD: Inspect within 1,500 landings after March 9, 1993 [the effective date of AD 93-01-24, amendment 39-8478]. Or

(2) For airplanes inspected in accordance with paragraph (g) of this AD: Inspect within 1,500 landings after August 9, 1996.

(m) For airplanes identified as FLP in Section 5, “Fleet Leader Program,” of the SSID or Revision 2 of the SSID: Within one year after August 9, 1996, apply the basic requirements given in Revision 2 of the SSID.

(n) For airplanes that are subject to the requirements of paragraph (g) of this AD, and have exceeded the initial inspection threshold specified in paragraph 4.4, “Adjustment of Inspection Requirements and DSG,” of Section 4, or paragraph 6, “Inspection Threshold and Intervals,” of Section 9, for each SSD: Perform the initial inspection prior to the accumulation of the number of flight cycles specified in paragraph 7, “Additional Information,” Section 9, of Revision 2 of the SSID.

Note 3: Fatigue ratings are not applicable to these allowances; therefore, no adjustment is required.

Note 4: Paragraph (n) of this AD provides the “grace” periods for those airplanes that are new to the FLP or that have newly added or revised SSID requirements in accordance with paragraph (g) of this AD.

(o) The grace period provided by paragraph (n) of this AD is also applicable to the thresholds and/or repeat intervals for each SSD for which the inspection interval or threshold was reduced in accordance with the requirements of paragraph (g) of this AD.

(p) For FLP airplanes identified in Section 5, “Fleet Leader Program,” of the SSID or Revision 2 of the SSID that are listed in Section 7, “SSI Limitation List,” of the SSID (for airplanes that are currently being inspected in accordance with paragraph (f) of this AD) , or Revision 2 of the SSID (for airplanes that are currently being inspected in accordance with paragraph (g) of this AD): Inspect at intervals not to exceed the interval specified for each SSI, in accordance with the values given in Section 7, “SSI Limitation List,” of the SSID or Revision 2 of the SSID, as applicable.

(q) For all airplanes: All inspection results, positive or negative, must be reported to Airbus in accordance with either paragraph (q)(1) or (q)(2) of this AD, as applicable. Information collection requirements contained in this regulation have been approved by the Office of Management and Budget (OMB) under the provisions of the Paperwork Reduction Act of 1980 (44 U.S.C. 3501 et seq.) and have been assigned OMB Control Number 2120-0056.

(1) For FLP airplanes, identified in Section 5, “Fleet Leader Program,” of the SSID or Revision 2 of the SSID: Submit reports in accordance with the instructions in paragraph 5.2, “SSIP Inspection Reporting,” of Section 5, and paragraph 7.1, “General,” of Section 7 of the SSID (for airplanes that are currently being inspected in accordance with paragraph (f) of this AD); or Revision 2 of the SSID (for airplanes inspected in accordance with paragraph (g) of this AD).

(2) For all airplanes that are subject to Section 6, “SB Reference List,” of the SSID: Submit reports in accordance with the instructions in the applicable service bulletins identified in Section 6 of the SSID (for airplanes that are currently being inspected in accordance with paragraph (f) of this AD); or Revision 2 of the SSID (for airplanes that are currently being inspected in accordance with paragraph (g) of this AD).

New Requirements of This AD

Revision of the FAA-Approved Maintenance Inspection Program

(r) Within 12 months after the effective date of this AD, replace the revision of the FAA-approved maintenance program required by paragraph (g) of this AD with the supplemental structural inspections, inspection intervals, and repairs defined in Airbus A300 Airworthiness Limitation Items (ALI) Document SEM2/95A.1090/05, Issue 3, dated September 2005, as revised by Airbus Temporary Revision (TR) 3.1, dated April 2006 (hereafter referred to as “Issue 3 of the ALI”). Accomplish the actions specified in Issue 3 of the ALI at the times specified in that ALI, except as provided by paragraph (s) of this AD. The actions must be accomplished in accordance with Issue 3 of the ALI. Accomplishing the applicable initial ALI tasks constitutes terminating action for the requirements of paragraphs (f) through (q) of this AD.

(s) For airplanes that have exceeded the threshold or intervals specified in Issue 3 of the ALI for the application tolerance on the first interval for new and revised requirements and have exceeded 50 percent of the intervals specified in sections D and E of Issue 3 of the ALI: Do the actions within 6 months after the effective date of this AD.

Corrective Actions

(t) Damaged, cracked, or corroded structure detected during any inspection done in accordance with Issue 3 of the ALI must be repaired, before further flight, in accordance with Issue 3 of the ALI, except as provided by paragraph (u) of this AD; or other data meeting the certification basis of the airplane which is approved by the Manager, International Branch, ANM-116; or by the European Aviation Safety Agency (EASA) (or its delegated agent).

(u) Where Issue 3 of the ALI specifies contacting Airbus for appropriate action: Before further flight, repair the damaged, cracked, or corroded structure using a method approved by either the Manager, International Branch, ANM-116; or the EASA (or its delegated agent).

No Fleet Sampling

(v) Although Issue 3 of the ALI specifies to do a “Sampling Concept” in section B, this AD prohibits the use of such a sampling program and requires all affected airplanes of the fleet to be inspected.

No Reporting

(w) Although Issue 3 of the ALI specifies to submit certain information to the manufacturer, this AD does not include that requirement.

Alternative Methods of Compliance (AMOCs)

(x)(1) The Manager, International Branch, ANM-116 has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 96-13-11 are approved as AMOCs for the corresponding provisions of paragraphs (f) through (q) of this AD.

Related Information

(y) The EASA airworthiness directive 2006-0071, dated March 30, 2006, also addresses the subject of this AD.

Issued in Renton, Washington, on September 14, 2006.
Kalene C. Yanamura,
Acting Manager, Transport Airplane Directorate, Aircraft Certification Service.

[FR Doc. 06-8224 Filed 9-25-06; 8:45 am]

BILLING CODE 4910-13-P